DEPARTMENT OF HOMELAND SECURITY

Coast Guard

33 CFR Part 165

[Docket Number USCG-2013-0011]

RIN 1625-AA00

Safety Zones; Pacific Northwest Grain Handlers Association Facilities; Columbia and Willamette Rivers

AGENCY: Coast Guard, DHS.

ACTION: Temporary final rule.

SUMMARY: The Coast Guard is establishing temporary safety zones around the following Pacific Northwest Grain Handlers Association facilities: The Columbia Grain facility on the Willamette River in Portland, OR, the United Grain Corporation facility on the Columbia River in Vancouver, WA, the Temco Irving facility on the Willamette River in Portland, OR, the Temco Kalama facility on the Columbia River in Kalama, WA, and the Louis Dreyfus Commodities facility on the Willamette River in Portland, OR. These safety zones extend approximately between the navigable channel and the shoreline of the facility described. These safety zones have been established to ensure that on-water protest activities near these facilities do not create hazardous navigation conditions for vessels protesting, transiting in the navigable channel, or attempting to moor at the facilities and that any on-water activities do not create hazardous conditions while grain-shipment vessels are moored at the facilities.

DATES: This rule is effective without actual notice from November 27, 2013 until November 27, 2015. For the purposes of enforcement, actual notice will be used from the date the rule was signed, October 31, 2013, until November 27, 2013.

ADDRESSES: Documents mentioned in this preamble are part of docket [USCG-2013-0011]. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email LTJG Ian P. McPhillips, Waterways Management Division, Marine Safety Unit Portland, U.S. Coast Guard; telephone (503) 240-9319, email msupdxwwm@uscg.mil. If you have questions on viewing or submitting material to the docket, call Renee V. Wright, Program Manager, Docket Operations, telephone (202) 366-9826.

SUPPLEMENTARY INFORMATION:

Table of Acronyms

DHS Department of Homeland Security

FR Federal Register

NPRM Notice of Proposed Rulemaking

TFR Temporary Final Rule

A. Regulatory History and Information

On August 6, 2013, the Coast Guard published a temporary interim rule and request for comments titled, “Safety Zones; Pacific Northwest Grain Handlers Association Facilities; Columbia and Willamette Rivers” in the Federal Register (78 FR 47567). In that temporary interim rule, the Coast Guard established temporary safety zones near five Pacific Northwest Grain Handlers Association facilities. Although the Coast Guard had good cause to issue that temporary interim rule without first publishing a proposed rule, the Coast Guard invited the submission of post-promulgation comments and related material regarding that rule through September 5, 2013. No request for a public meeting was received. The Coast Guard received one submission to the docket that raised several objections.

B. Basis and Purpose

Coast Guard Captains of the Port are granted authority to establish safety and security zones in 33 CFR 1.05-1(f) for safety and environmental purposes as described in 33 CFR Part 165.

These safety zones are being implemented to ensure the safe navigation of maritime traffic on the Columbia and Willamette Rivers and their tributaries while grain-shipment and grain-shipment assist vessels transit to and from these Pacific Northwest Grain Handlers Association facilities and to ensure that vessels remain safely moored at these Coast Guard regulated facilities. These safety zones are intended to ensure that members of the maritime public, in particular, those engaged in commerce and protest activities on the water, are not injured. Recreational boating, fishing, and protest activity afloat in these safety zones is particularly hazardous because of the effects of strong river currents, the maneuvering characteristics of grain-shipment vessels, and the safety-sensitive mid-stream personnel transfers conducted by grain-shipment assist vessels with which recreational boaters and protesters may be unfamiliar. These safety zones apply equally to all waterway users and are intended to allow maximum use of the waterway consistent with safe navigation. The impact of the safety zones on maritime activity in the area is minimal because the safety zones are of a limited size and do not encroach on the navigation channel. Grain-shipment vessel means any vessel bound for or departing or having previously loaded cargo at any of the following waterfront facilities: Columbia Grain in Portland, OR; United Grain Corporation in Vancouver, WA; Temco Irving in Portland, OR; Temco Kalama in Kalama, WA; or Louis Dreyfus Commodities in Portland, OR. This includes any vessel leaving anchor in the Columbia and Willamette Rivers that is bound for or had previously departed from the aforementioned waterfront facilities. Grain-shipment assist vessel means any vessel bound for or departing from a grain-shipment vessel to assist it in navigation during the movement of the grain-shipment vessel in the Columbia and Willamette Rivers and their tributaries. This includes but is not limited to tugs, pilot boats, and launches.

C. Discussion of Comments, Changes and the Final Rule

This temporary final rule is unchanged from the temporary interim rule that was published on August 6, 2013 (78 FR 47567) as no substantive changes have been deemed necessary. One commenter submitted a letter to the docket containing several objections. The commenter addressed the inclusion of the safety zone around the Louis Dreyfus facility, which was not included in the previous rule published on February 4, 2013. The Louis Dreyfus facility was not previously included because it was undergoing repairs and was not operational. The Coast Guard has included the Louis Dreyfus facility in this rule based on the facility's plans to begin fulltime operations within the enforcement period of this rule.

The commenter asserted that the safety zones were unnecessary and overbroad. Specifically, the commenter questioned the necessity of the size of these zones. The sizes of these zones are based on the average size of the grain-shipment vessels operating on the river and the average speed of the vessels during their approach. The commenter asserted that deep-draft vessels on the Columbia and Willamette Rivers typically approach at 1 to 2 knots when entering the final 250 yards before the terminal, and therefore, a narrower safety zone of 50-70 yards would still provide a two-minute pre-collision period. The Coast Guard disagrees that a safety zone of 50-70 yards would provide a sufficient buffer to prevent collisions. As vessels are mooring, their speed and direction are frequently changing. Based on these dynamic conditions, we believe the width and size of these safety zones are necessary to significantly reduce the risk posed by limited ship-to-boat communications or propulsion failure by vessels or watercraft operating in the vicinity of grain-shipment vessels.

The commenter also asserts that the Coast Guard has failed to state why the safety zones are necessary and that it appears the safety zones were enacted as the result of union animus. Coast Guard Captains of the Port are delegated authority to establish safety and security zones in 33 CFR 1.05-1(f) for safety and environmental purposes as described in 33 CFR Part 165. The Coast Guard has previously stated that the purpose of this rule is to ensure the safe navigation of maritime traffic on the Columbia and Willamette Rivers and their tributaries while grain-shipment and grain-shipment assist vessels transit to and from these Pacific Northwest Grain Handlers Association facilities. These safety zones are intended to mitigate the hazardous conditions created by small recreational vessels operating in close proximity to large and less-maneuverable, commercial deep-draft vessels and tug and barge configurations, which are typically between 300 and 800 feet in length. In addition to mitigating the navigational dangers associated with operating a small vessel in close proximity to less-maneuverable deep-draft grain-shipment vessels, the Coast Guard believes these safety zones are necessary to protect the safety-sensitive mid-stream personnel transfers conducted by grain-shipment assist vessels with which recreational boaters and protesters may be unfamiliar.

The Coast Guard also disagrees with the commenter's assertion that the safety zones were enacted out of union animus. The Coast Guard respects the First Amendment rights of protesters. These safety zones do not single out protesters, but apply equally to all waterway users and are intended to allow maximum use of the waterway consistent with safe navigation. The safety zones created by this rule do not prohibit members of the public from assembling on the water to express their points of view. The Captain of the Port has, in coordination with protesters, recommended areas on the water in the vicinity of these safety zones where those desiring to do so can assemble and express their views to the intended audience without compromising navigational safety.

The commenter asserted that the proposed rule would prevent protesters from engaging in peaceful protest activities. The Coast Guard disagrees. The safety zones created by this rule do not prohibit protest activities on the Columbia and Willamette Rivers. Instead, these safety zones are intended to mitigate the hazardous conditions created by small recreational vessels operating in close proximity to large and less-maneuverable commercial deep-draft vessels and tug and barge configurations, which are typically between 300 and 800 feet in length. The safety zones apply to all vessels not otherwise exempted and are intended to ensure the safe navigation of maritime traffic and to protect the safety of life and property on the Columbia and Willamette rivers and all adjoining tributaries.

The commenter also asserted that this rule is inconsistent with the National Labor Relations Act, 29 U.S.C. 151 et seq., because it prohibits picketing activity. However, the safety zones in this rule do not prohibit picketing, or other concerted activities by employees. Vessel operators, including those engaged in picketing activity, may operate in any part of the river outside of the zones so long as they do so in accordance with the navigational rules.

The commenter disagreed with the Coast Guard's suggested use of on-water assembly areas. Prior to promulgation of the initial safety zone, outreach meetings were held between the local Captain of the Port, Columbia River Pilots, and union members. Based on input from these meetings, the Coast Guard designated on-water assembly areas where protesters could safely exercise their First Amendment rights. However, protestors are not required to restrict their protest activities to these assembly areas and may operate in any part of the river outside of the zones so long as they do so in accordance with the navigational rules.

The commenter expressed the importance of “on-water picketing” in publicizing the ongoing labor dispute and stated that the safety zones unnecessarily burden the ability of protesters to convey their message to their intended audience of “incoming vessels.” The Coast Guard disagrees. Nothing in this rule prevents union members from protesting on the water. The safety zones created by the rule apply to all vessels not otherwise exempted and are intended to ensure the safe navigation of maritime traffic and protect the safety of life and property on the Columbia and Willamette rivers and all adjoining tributaries. The zones address the hazardous conditions for vessels operating in the area due to the maneuvering characteristics of grain-shipment vessels and the safety sensitive mid-stream personnel transfers conducted by grain-shipment assist vessels with which recreational boaters and protesters may be unfamiliar. Vessel operators, including protestors, may operate in any part of the river outside of the zones so long as they do so in accordance with the navigational rules. Additionally, the safety zones are not so large as to prevent vessels from coming within sight or sound of inbound grain-shipment and grain-shipment assist vessels. The recommended on-water assembly areas were proposed specifically to identify locations outside of the safety zones that allow protestors to safely communicate with their intended audience.

Finally, the commenter asserts that the enforcement of these safety zones for a limited amount of time underscores the singling out of labor unions for differential treatment. The Coast Guard disagrees. The safety zones address safety hazards created by the navigation of recreational vessels in close proximity to the facilities to which large and less-maneuverable grain-shipment vessels are transiting. The enforcement of the safety zones for limited time periods is not for the purpose of singling out labor unions but is for the purpose of minimizing the impact on marine operators. The Coast Guard will enforce the safety zones for the minimal amount of time necessary to help ensure the safe navigation for all vessels in the vicinity. The safety zones created by this rule apply to all vessels not otherwise exempted, regardless of whether they are engaged in union activities.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. Although this rule will restrict access to the regulated areas, the effect of this rule will not be significant because: (i) The safety zones are limited in size; (ii) the official on-scene patrol may authorize access to the safety zones; (iii) the safety zones will effect limited geographical locations for a limited time; and (iv) the Coast Guard will make notifications via maritime advisories so mariners can adjust their plans accordingly.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received 0 comments from the Small Business Administration on this rule. The Coast Guard certifies under 5 U.S.C. 605(b) that this rule will not have a significant economic impact on a substantial number of small entities. This rule may affect the following entities some of which may be small entities: The owners and operators of vessels intending to operate in the area covered by the safety zones created in this rule.

This rule will not have a significant economic impact on a substantial number of small entities for the following reasons: (i) The safety zones are limited in size; (ii) the official on-scene patrol may authorize access to the safety zones; (iii) the safety zones will effect limited geographical locations for a limited time; and (iv) the Coast Guard will make notifications via maritime advisories so mariners can adjust their plans accordingly.

3. Assistance for Small Entities

Under section 213(a) of the Small Business Regulatory Enforcement Fairness Act of 1996 (Public Law 104-121), we want to assist small entities in understanding this rule. If this rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. In preparing this temporary final rule, the Coast Guard carefully considered the rights of lawful protestors. The safety zones created by this rule do not prohibit members of the public from assembling on shore or expressing their points of view from locations on shore. In addition, the Captain of the Port has, in coordination with protesters, recommended water areas in the vicinity of these safety zones where those desiring to do so can assemble and express their views without compromising navigational safety. Protesters are asked to contact the person listed in the FOR FURTHER INFORMATION CONTACT section to coordinate protest activities so that your message can be received without jeopardizing the safety or security of people, places, or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves the establishment of temporary safety zones around the Columbia Grain facility on the Willamette River in Portland, OR, the United Grain Corporation facility on the Columbia River in Vancouver, WA, the Temco Irving facility on the Willamette River in Portland, OR, the Temco Kalama facility on the Columbia River in Kalama, WA, and the Louis Dreyfus Commodities facility on the Willamette River in Portland, OR. This rule is categorically excluded from further review under paragraph 34(g) of Figure 2-1 of the Commandant Instruction. An environmental analysis checklist supporting this determination and a Categorical Exclusion Determination are available in the docket where indicated under ADDRESSES. We seek any comments or information that may lead to the discovery of a significant environmental impact from this rule.

List of Subjects in 33 CFR Part 165

Harbors, Marine Safety, Navigation (water), Reporting and recordkeeping requirements, Waterways.

For the reasons discussed in the preamble, the Coast Guard amends 33 CFR Part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Add § 165.T13-240 to read as follows:

§ 165.T13-240 Safety Zones; Pacific Northwest Grain Handlers Association Facilities; Columbia and Willamette Rivers.

(a) Definitions. As used in this section:

(1) Federal Law Enforcement Officer means any employee or agent of the United States government who has the authority to carry firearms and make warrantless arrests and whose duties involve the enforcement of criminal laws of the United States.

(2) Navigable waters of the United States means those waters defined as such in 33 CFR part 2.

(3) Navigation Rules means the International Regulations for Preventing Collisions at Sea, 1972 (commonly called 72 COLREGS) and the Inland Navigation Rules published in 33 CFR Part 83.

(4) Official Patrol means those persons designated by the Captain of the Port to monitor a vessel safety zone, permit entry into the zone, give legally enforceable orders to persons or vessels within the zone and take other actions authorized by the Captain of the Port. Federal Law Enforcement Officers authorized to enforce this section are designated as the Official Patrol.

(5) Public vessel means vessels owned, chartered, or operated by the United States, or by a State or political subdivision thereof.

(6) Grain-shipment vessel means any vessel bound for, departing from, or having previously loaded cargo at any of the following waterfront facilities: Columbia Grain in Portland, OR, United Grain Corporation in Vancouver, WA, Temco Irving in Portland, OR, Temco Kalama in Kalama, WA, or Louis Dreyfus Commodities in Portland, OR. This includes any vessel leaving anchor in the Columbia and Willamette Rivers that is bound for or had previously departed from the aforementioned waterfront facilities.

(7) Grain-shipment assist vessel means any vessel bound for or departing from a grain-shipment vessel to assist it in navigation during the movement of the grain-shipment vessel in the Columbia and Willamette Rivers and their tributaries. This includes but is not limited to tugs, pilot boats, and launches.

(8) Oregon Law Enforcement Officer means any Oregon Peace Officer as defined in Oregon Revised Statutes section 161.015.

(9) Washington Law Enforcement Officer means any General Authority Washington Peace Officer, Limited Authority Washington Peace Officer, or Specially Commissioned Washington Peace Officer as defined in Revised Code of Washington section 10.93.020

(b) Locations. The following areas are safety zones:

(1) Columbia Grain. All navigable waters of the United States within the Sector Columbia River Captain of the Port Zone enclosed by three lines and the shoreline: line one starting on the shoreline at 45-38′34″ N/122-46′11″ W then heading 150 yards offshore to 45-38′37″ N/122-46′16″ W then heading up river 380 yards to 45-38′30″ N/122-46′28″ W then heading 150 yards to the shoreline ending at 45-38′27″ N/122-46′24″ W.

(2) United Grain Corporation. All navigable waters of the United States within the Sector Columbia River Captain of the Port Zone enclosed by three lines and the shoreline: line one starting on the shoreline at 45-37′52″ N/122-41′46″ W then heading 150 yards offshore to 45-37′48″ N/122-41′50″ W then heading up river 470 yards to 45-37′40″ N/122-41′34″ W then heading 175 yards to the shoreline ending at 45-37′44″ N/122-41′29″ W.

(3) Temco Portland. All navigable waters of the United States within the Sector Columbia River Captain of the Port Zone enclosed by three lines and the shoreline: line one starting on the shoreline at 45-32′10″ N/122-40′34″ W then heading 150 yards offshore to 45-32′09″ N/122-40′39″ W then heading up river 275 yards to 45-32′01″ N/122-40′33″ W then heading 150 yards to the shoreline ending at 45-32′04″ N/122-40′28″ W.

(4) Temco Kalama. All navigable waters of the United States within the Sector Columbia River Captain of the Port Zone enclosed by three lines and the shoreline: line one starting on the shoreline at 45-59′10″ N/122-50′09″ W then heading 150 yards offshore to 45-59′09″ N/122-50′14″ W then heading up river 385 yards to 45-58′58″ N/122-50′07″ W then heading 150 yards to the shoreline ending at 45-59′00″ N/122-50′01″ W.

(5) Louis Dreyfus Commodities. All navigable waters of the United States within the Sector Columbia River Captain of the Port Zone enclosed by three lines and the shoreline: line one starting on the shoreline at 45-31′49″ N/122-40′15″ W then heading 70 yards offshore to 45-31′48″ N/122-40′17″ W then heading up river 300 yards to 45-31′41″ N/122-40′09″ W then heading 100 yards to the shoreline ending at 45-31′43″ N/122-40′06″ W.

(c) Effective Period. This section is effective without actual notice from November 27, 2013 until November 27, 2015 and will be activated for enforcement as described in paragraph (d) of this section. Actual notice will be used from the date the rule was signed, October 31, 2013, until November 27, 2013.

(d) Enforcement Periods. The Sector Columbia River Captain of the Port will cause notice of the enforcement of the grain facilities safety zones to be made by all appropriate means to effect the widest publicity among the affected segments of the public as practicable, in accordance with 33 CFR 165.7. Such means of notification may include, but are not limited to, Broadcast Notices to Mariners or Local Notices to Mariners. The Sector Columbia River Captain of the Port will issue a Broadcast Notice to Mariners notifying the public when enforcement of the safety zone is suspended.

Upon notice of enforcement by the Sector Columbia River Captain of the Port, the Coast Guard will enforce the safety zone in accordance with the rules set out in this section. Upon notice of suspension of enforcement by the Sector Columbia River Captain of the Port, all persons and vessels are authorized to enter, transit, and exit the safety zone, consistent with the Navigation Rules.

(e) Regulation. (1) In accordance with the general regulations in section 165.23 of this part, entry into or movement within these zones is prohibited unless authorized by the Sector Columbia River Captain of the Port, the official patrol, or other designated representatives of the Captain of the Port.

(2) To request authorization to enter or operate within the safety zone contact the on-scene official patrol on VHF-FM channel 16 or 13, or the Sector Columbia River Command Center at phone number (503) 861-6211. Authorization will be granted based on the necessity of access and consistent with safe navigation.

(3) Vessels authorized to enter or operate within the safety zone shall operate at the minimum speed necessary to maintain a safe course and shall proceed as directed by the on-scene official patrol. The Navigation Rules shall apply at all times within the safety zone.

(4) When conditions permit, the on-scene official patrol, or a designated representative of the Captain of the Port at the Sector Columbia River Command Center, should:

(i) Permit vessels constrained by their navigational draft or restricted in their ability to maneuver to enter or operate within the safety zone in order to ensure a safe passage in accordance with the Navigation Rules; and

(ii) Permit commercial vessels anchored in a designated anchorage area to remain at anchor within the safety zone; and

(iii) Permit vessels that must transit via a navigable channel or waterway to enter or operate within the safety zone in order to do so.

(f) Exemption. Public vessels as defined in paragraph (a) of this section are exempt from complying with paragraph (e) of this section.

(g) Enforcement. Any Coast Guard commissioned, warrant, or petty officer may enforce the rules in this section. In the navigable waters of the United States to which this section applies, when immediate action is required and representatives of the Coast Guard are not present or are not present in sufficient force to provide effective enforcement of this section, any Federal Law Enforcement Officer, Oregon Law Enforcement Officer, or Washington Law Enforcement Officer may enforce the rules contained in this section pursuant to 46 U.S.C. 70118. In addition, the Captain of the Port may be assisted by other federal, state, or local agencies in enforcing this section.

(h) Waiver. The Captain of the Port Columbia River may waive any of the requirements of this section for any vessel or class of vessels upon finding that operational conditions or other circumstances are such that application of this section is unnecessary or impractical for the purpose of port safety or environmental safety.

Dated: October 31, 2013.
B.C. Jones,
Captain, U.S. Coast Guard, Captain of the Port, Sector Columbia River.

[FR Doc. 2013-28362 Filed 11-26-13; 8:45 am]

BILLING CODE 9110-04-P